DEPARTMENT OF TRANSPORTATION

Federal Highway Administration

Environmental Impact Statement: Cooper Landing, Kenai Peninsula Borough, AK

AGENCY: Federal Highway Administration (FHWA), Alaska Department of Transportation and Public Facilities (ADOT&PF).

ACTION: Notice of intent.

SUMMARY: ADOT&PF, on behalf of FHWA, will be preparing a supplemental draft environmental impact statement (SDEIS) and section 4(f) Evaluation, in accordance with Title 23 CFR part 771, for the Sterling Highway MP 45 to MP 60 project and invites public comment. The supplement updates a draft EIS approved and circulated for public review in 1994.

The Sterling Highway is the only highway connecting the western Kenai Peninsula with the remainder of the nation's highway system. The highway parallels the Kenai River and passes through State and federal public lands and the community of Cooper Landing.

The proposed project provides a highway meeting current design standards. Alternatives under consideration include: (1) The No-Build Alternative, (2) constructing a new location facility north of the existing Sterling Highway, (3) constructing a new location facility south of the existing Sterling Highway, (4) constructing an improved facility along the same corridor as the existing facility.

FOR FURTHER INFORMATION CONTACT: Mr. Tim Haugh, Environmental and Right-of-Way Programs Manager, Alaska Division FHWA, P.O. Box 21648, Juneau, Alaska 99802-1648, Telephone (907) 586-7430; Ms. Miriam Tanaka, P.E., Project Manager, Preliminary Design and Environmental, ADOT&PF, P.O. Box 196900, Anchorage, Alaska 99519-6900, Telephone (907) 269-0546. ADOT&PF has established a Web site for the project: http://www.sterlinghighway.net.

SUPPLEMENTARY INFORMATION: ADOT&PF and FHWA published a Draft EIS for the Sterling Highway MP 37 to 60 Project in 1994. The following year, FHWA agreed to advance a portion of the proposed improvements under a separate environmental document. The current supplement reexamines the MP 45 to 60 portion of the improvement studied in the Draft EIS.

Public lands in the project area include the Mystery Creek Wilderness Unit of the Kenai National Wildlife Refuge, Chugach National Forest (including campgrounds, recreation areas, and trails), the Resurrection Pass National Recreation Trail, and the State of Alaska Kenai River Special Management Area. The project area also includes the Sqilantnu Archaeological District and the Cooper Landing Historic District.

The existing highway is narrow without shoulders or clear zones and has many curves and driveways. The proposed improved highway includes wider shoulders, passing and turning lanes, clear zones or barricades, new bridge construction, improved drainage systems, and slope stabilization. Title XI of the Alaska National Interest Lands Conservation Act (ANILCA), which addresses transportation corridors that cross certain conservation lands contains additional procedural review requirements and specific timeframes should a preferred alternative be chosen that impacts an ANILCA Title XI resource. The Resurrection Pass National Recreation Trail and Mystery Creek Wilderness Unit warrant ANILCA Title XI procedures in addition to FHWA regulations governing implementation of the National Environmental Policy Act (NEPA), 23 CFR part 771.

The U.S. Department of the Interior, Fish and Wildlife Service Regional Administrator, and the USDA Forest Service, Chugach Forest Supervisor, have agreed to combine the environmental requirements imposed by ANILCA with the requirements of 23 CFR part 771 by designating the FHWA as the lead agency for compliance with NEPA.

The U.S. Fish and Wildlife Service, the USDA Forest Service, and the U.S. Army Corps of Engineers are cooperating agencies in the development of the SDEIS.

ADOT&PF is undertaking an on-going, large-scale public involvement program including public events in Cooper Landing, the Soldotna area, and Anchorage. Public notices will continue to be published in local newspapers and on the project Web site (http://www.sterlinghighway.net) regarding the times and places of all events. These events, with on-going public comment, are intended to provide a public forum that affords a full opportunity for presenting views on the social, economic, natural, and other effects of the alternative locations and design features. Comments and suggestions are invited from all interested parties and should be directed to the FHWA and/or ADOT&PF at the addresses provided above.

(Catalog of Federal Domestic Assistance Program Number 20.205, Highway Research, Planning and Construction)
Issued on: April 28,2003.
David C. Miller,
Division Administrator, Federal Highway Administration.

[FR Doc. 03-12448 Filed 5-16-03; 8:45 am]

BILLING CODE 4910-22-M